DEPARTMENT OF HEALTH AND HUMAN SERVICES

Administration for Children and Families

Grant to American Public Human Services Association

AGENCY: Office of Family Assistance, ACF, DHHS.

ACTION: Grant award announcement.

SUMMARY: Notice is hereby given that an award is being made to the American Public Human Services Association (APHSA), of Washington, DC in the amount of $15,000 for support to their Executive Leadership Institute. The Executive Leadership Institute of APHSA is designed by and for State Human Service Administrators and offers various educational activities that will enhance the skills and leadership capacity of State Human Service Administrators and other high-level policy makers involved in implementation of State Temporary Assistance to Needy Families (TANF) Programs. The American Public Human Services Association is a very unique organization in the Welfare Reform community. The mission of APHSA is to develop, promote, and implement public human service policies that improve the health and well being of families children, and adults. APHSA educates members of Congress, the media, and the broader public on what is happening in the States concerning welfare, child welfare, healthcare reform, and other issues that directly impact our TANF program. The Executive Leadership Institute focuses its efforts on the Top State Human Service Executive and Senior Managers and other high level policy makers. By partnering with APHSA on this project, the Administration for Children and Families will further its goal in Welfare Reform by enhancing the skills and leadership capacity of the Human Service Administrators and other high level policy makers involved in implementing their TANF programs. After the appropriate reviews, it has been determined that this proposal qualifies as a sole source award.

The period of this funding will extend through May 31, 2001.

FOR FURTHER INFORMATION CONTACT: Paul Maiers, Office of Family Assistance, Administration for Children and Families, 370 L'Enfant Promenade, SW, Washington, DC 20447, Telephone: 202-401-5438.

Dated: June 20, 2000.
Alvin C. Collins,
Director, Office of Family Assistance.

[FR Doc. 00-16055 Filed 6-23-00; 8:45 am]

BILLING CODE 4184-01-M